DEPARTMENT OF COMMERCE

International Trade Administration

A-552-801

Certain Frozen Fish Fillets from the Socialist Republic of Vietnam: Extension of Time Limit for the Final Results of the Expedited Sunset Review of the Antidumping Duty Order

AGENCY: Import Administration, International Trade Administration, Department of Commerce.

EFFECTIVE DATE: December 10, 2008.

FOR FURTHER INFORMATION CONTACT: Matthew Renkey, Import Administration, International Trade Administration, U.S. Department of Commerce, 14th Street & Constitution Avenue, NW, Washington, DC 20230; telephone: (202) 482-2312.

SUPPLEMENTARY INFORMATION:

Background

On July 1, 2008, the Department of Commerce (“the Department”) initiated a sunset review of the antidumping duty order on certain frozen fish fillets from the Socialist Republic of Vietnam (“Vietnam”) pursuant to section 751(c) of the Tariff Act of 1930, as amended (“the Act”). See Initiation of Five-year (“Sunset”) Review, 73 FR 37411 (July 1, 2008). Based on an adequate response from the domestic interested party and an inadequate response from the respondent interested party, the Department is conducting an expedited sunset review to determine whether revocation of the antidumping duty order would lead to the continuation or recurrence of dumping, pursuant to section 751(c)(3)(B) of the Act and section 351.218(e)(1)(ii)(C)(2) of the Department's regulations. See Letters to the International Trade Commission regarding the Sunset Reviews of the AD/CVD Orders Initiated in July 2007, dated July 22, 2008, and August 20, 2008. On October 31, 2008, the Department published a notice extending the time limit for the completion of the final results of this review by 40 days until December 8, 2008. See Certain Frozen Fish Fillets From the Socialist Republic of Vietnam: Extension of Time Limit for the Final Results of the Expedited Sunset Review of the Antidumping Duty Order, 73 FR 64913 (October 31, 2008).

Extension of Time Limits for Final Results

In accordance with section 751(c)(5)(B) of the Act, the Department may extend the 120-day time period for making its determination by not more than 90 days, if it determines that a review is extraordinarily complicated. As set forth in section 751(c)(5)(C)(i) of the Act, the Department may treat a sunset review as extraordinarily complicated if there are a large number of issues, as is the case in this proceeding. Therefore, the Department has determined, pursuant to section 751(c)(5)(C)(i) of the Act, that the first sunset review of frozen fish fillets from Vietnam is extraordinarily complicated. Accordingly, the Department is extending the time limit for the completion of the final results by an additional 50 days, from December 8, 2008, to no later than January 27, 2009, in accordance with section 751(c)(5)(B) of the Act.

This notice is published pursuant to sections 751(c)(5)(B) and 777(i)(1) of the Act.

Dated: December 3, 2008.
Gary Taverman,
Acting Deputy Assistant Secretary for Antidumping and Countervailing Duty Operations.

[FR Doc. E8-29226 Filed 12-9-08; 8:45 am]

BILLING CODE 3510-DS-S